DEPARTMENT OF LABOR

Employment and Training Administration

[TA-W-57,881; TA-W-57,881B]

Champion Laboratories, Inc., Albion, IL; Champion Laboratories, Inc., West Salem, IL; Amended Certification Regarding Eligibility To Apply for Worker Adjustment Assistance

In accordance with section 223 of the Trade Act of 1974 (19 U.S.C. 2273) the Department of Labor issued a Certification Regarding Eligibility to Apply for Worker Adjustment Assistance on September 15, 2005, applicable to workers of Champion Laboratories, Inc., Albion, Illinois. The notice was published in the Federal Register on October 31, 2005 (70 FR 62347). The certification was amended on November 8, 2005 to include an employee of the Albion, Illinois facility of the subject firm located in Bristol, Connecticut (TA-W-57,881A). The notice will be published soon in the Federal Register.

At the request of the State agency, the Department reviewed the certification for workers of the subject firm. The workers are engaged in the production of filters.

New information shows that the company sends workers back and forth between the Albion, Illinois facilities and the West Salem, Illinois facility; therefore, workers are not separately identifiable by location. Worker separations have occurred at the Albion, Illinois and West Salem, Illinois facilities of Champion Laboratories.

Accordingly, the Department is amending the certification to cover workers of Champion Laboratories, Inc., West Salem, Illinois.

The intent of the Department's certification is to include all workers of Champion Laboratories, Inc. who were adversely affected by increased company imports.

The amended notice applicable to TA-W-57,881 is hereby issued as follows:

“All workers of Champion Laboratories, Inc., Albion, Illinois (TA-W-57,881), including an employee of Champion Laboratories, Albion, Illinois, located in Bristol, Connecticut (TA-W-57,881A), Champion Laboratories, Inc., West Salem, Illinois (TA-W-57,881B), who became totally or partially separated from employment on or after August 27, 2004, through September 15, 2007, are eligible to apply for adjustment assistance under section 223 of the Trade Act of 1974.”

Signed at Washington, DC this 18th day of November 2005.
Elliott S. Kushner,
Certifying Officer, Division of Trade Adjustment Assistance.

[FR Doc. E5-6994 Filed 12-6-05; 8:45 am]

BILLING CODE 4510-30-P